ENVIRONMENTAL PROTECTION AGENCY

[OPP-2003-0158; FRL-7312-3]

Certain Pesticides; Completion of Comment Period for Reregistration Eligibility Decision and Tolerance Reassessment Decision Documents

AGENCY: Environmental Protection Agency (EPA).

ACTION: Notice.

SUMMARY: This notice announces the closure of benomyl, butylate, chlorothalonil, oxadixyl, primisulfuron-methyl, and vinclozolin reregistration elegibility decisions (REDs) and tolerance reassessment decisions (TREDs). EPA developed these reregistration decisions pursuant to the Federal Insecticide, Fungicide, and Rodenticide Act (FIFRA) and tolerance reassessments under the Federal Food, Drug, and Cosmetic Act (FFDCA).

FOR FURTHER INFORMATION CONTACT: Technical questions on the RED and TRED documents should be directed to the appropriate Chemical Review Managers listed in Unit II.A.

SUPPLEMENTARY INFORMATION:

I. General Information

A. Does this Action Apply to Me?

This notice is directed to the public in general. As such, the Agency has not attempted to describe all the specific entities that may be affected by this action. If you have any questions regarding the information in this notice, contact the appropriate chemical review manager listed in the table in Unit II.A.

B. How Can I Get Copies of this Document and Other Related Information?

1. Docket. EPA has established an official public docket for this action under docket identification (ID) number OPP-2003-0158. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. The appropriate RED and TRED documents can be reviewed by utilizing the www.epa.gov/pesticides site. The site will provide background information for the chemicals listed in the table. Technical questions can be directed to the chemical review manager. An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. What Action is the Agency Taking?

During fiscal years 1998-2002, EPA published Notices in the Federal Register announcing the availability of RED and TRED documents for a number of pesticides concluding reregistration and tolerance reassessments. This notice constitutes and announces the closing of the comment periods for the pesticides listed below. Thirty and 60-day comment periods have closed for each chemical. Because EPA did not receive any significant adverse comments, the Agency considers the RED and TRED for the pesticides as final decisions and hereby closed.

Chemical Name | Chemical Review Manager | Case Number | RED/TRED Date
Benomyl | Demson Fuller (703) 308-8062 | 0119 | July 2002 Voluntary Cancellation August 2001
Butylate | Gary Mullins (703) 308-8044 | 0071 | September 2001
Chlorothalonil | Jill Bloom (703) 308-8019 | 0097 | September 1998
Oxadixyl | John Pates (703) 308-8195 | AI126701 | September 2001
Primisulfuron-methyl | Christina Scheltema (703) 308-2201 | AI128973 | July 2002
Vinclozolin | Demson Fuller (703) 308-8062 | 2740 | October 2000

B. What is the Agency's Authority for Taking this Action?

The legal authority for this decision falls under FIFRA, as amended in 1988 and 1996. Section 4(g)(2) of FIFRA directs that, after submission of all data concerning a pesticide active ingredient, “the Administrator shall determine whether pesticides containing such active ingredient are eligible for reregistration” before calling in product-specific data on individual end-use products, and either registering products or taking other “appropriate regulatory action.”

List of Subjects

Environmental protection

.

Dated: July 1, 2003.
Richard P. Keigwin Jr.,
Acting Director, Special Review and Reregistration Division, Office of Pesticide Programs.

[FR Doc. 03-17616 Filed 7-10-03; 8:45 am]

BILLING CODE 6560-50-S